DEPARTMENT OF HEALTH AND HUMAN SERVICES

National Institutes of Health

Clinical Center; Amended Notice of Meeting

Notice is hereby given of a change in the meeting of the Board of Governors of the Warren Grant Magnuson Clinical Center, March 31, 2003, 9 AM to March 31, 2003, 12 PM, which was published in the Federal Register on February 28, 2003, FR 68,40-9703.

The meeting will be held March 31, 2003 and is being changed from open to partially closed. The meeting will be closed from 11:30 to adjournment in accordance with the provisions set forth in section 552b(c)(6), Title 5 U.S.C., as amended for discussion of personal qualifications and performance, the disclosure of which would constitute a clearly unwarranted invasion of personal privacy.

Dated: March 25, 2003.
LaVerne Y. Stringfield,
Director, Office of Federal Advisory Committee Policy.

[FR Doc. 03-7576 Filed 3-28-03; 8:45 am]

BILLING CODE 4140-01-M